DEPARTMENT OF ENERGY

Federal Energy Regulatory Commission

Notice of Commission Staff Attendance

The Federal Energy Regulatory Commission hereby gives notice that members of the Commission's staff may attend the following meetings related to the transmission planning activities of the New York Independent System Operator, Inc. (NYISO):

Joint Inter-Regional Planning Task Force/Electric System Planning Working Group

February 27, 2012, 11 a.m.-4 p.m., Local Time.

Inter-Area Planning Stakeholder Advisory Subcommittee

March 30, 2012, 8:30 a.m.-12:30 p.m., Local Time (conference call only).

The above-referenced meetings will be held at: NYISO's offices, Rensselaer, NY.

The above-referenced meetings are open to stakeholders.

Further information may be found at www.nyiso.com.

The discussions at the meetings described above may address matters at issue in the following proceeding:

Docket No. ER08-1281, New York Independent System Operator, Inc.

For more information, contact James Eason, Office of Energy Market Regulation, Federal Energy Regulatory Commission at (202) 502-8622 or James.Eason@ferc.gov.

Dated: February 22, 2012.
Kimberly D. Bose,
Secretary.

[FR Doc. 2012-4772 Filed 2-28-12; 8:45 am]

BILLING CODE 6717-01-P